DEPARTMENT OF HEALTH AND HUMAN SERVICES

Administration for Children and Families

Submission for OMB Review: Adoption and Foster Care Analysis and Reporting System (AFCARS) (OMB #0970-0422)

AGENCY: Children's Bureau, Administration for Children and Families, Department of Health and Human Services (HHS).

ACTION: Request for public comments.

SUMMARY: The Children's Bureau (CB), the Administration for Children and Families (ACF) is requesting a three-year extension of the data information collection for the Adoption and Foster Care Analysis and Reporting System (AFCARS) that was implemented as part of the AFCARS final rule published in May 2020 (85 FR 28410). There are no proposed changes to the data information collection published as the regulation in May 2020. The estimated time per response related to record keeping has been revised since the previous published notice (88 FR 16449) due to feedback from the State and Tribal reporting agencies.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: State and Tribal title IV-E agencies are required to report AFCARS case-level information on all children in foster care and children who have been adopted or placed in a guardianship with title IV-E agency involvement. The data collected will inform policy decisions, program management, and responses to Congressional and Departmental inquiries. Specifically, the data are used for short/long-term budget projections, trend analysis, child and family service reviews, and to target areas for improved technical assistance. The data will provide information on the number of children in foster care, the reasons they enter and exit care, and how to prevent their unnecessary placement in foster care. Specifically, the data include information about children who enter foster care, their entries and exits, placement details, and foster/adoptive parent information. This extension request is unrelated to any potential new regulatory activity that may occur subsequently. This request is for public comment on the burden calculations. It does not seek comment on the data elements that have been through the rulemaking process.

Respondents: Title IV-E State and Tribal Child Welfare Agencies.

Annual Burden Estimates

The following annual burden estimates have been updated to reflect feedback received from the States and Tribes after the first notice published on May 15, 2023 (88 FR 16449). This feedback encouraged ACF to increase the estimated hours per response for recordkeeping.

Instrument | Total number of respondents | Total number of responses per respondent | Average burden hours per response | Total burden hours | Annual burden hours
AFCARS—Recordkeeping | 69 | 3 | 17,076 | 3,534,732 | 1,178,244
AFCARS—Reporting | 69 | 6 | 17 | 7,038 | 2,346

Estimated Total Annual Burden Hours: 1,180,590.

Authority: Section 479 of the Social Security Act and 45 CFR 1355.44-45.

Mary B. Jones,
ACF/OPRE Certifying Officer.

[FR Doc. 2023-11291 Filed 5-25-23; 8:45 am]

BILLING CODE 4184-25-P